FEDERAL COMMUNICATIONS COMMISSION

47 CFR Parts 1, 20, 27, and 73

[AU Docket No. 14-252, GN Docket No. 12-268, WT Docket No. 12-269; Report No. 3036]

Petitions for Reconsideration of Public Notice Regarding Application Procedures for Broadcast Incentive Auction

AGENCY: Federal Communications Commission.

ACTION: Petitions for reconsideration.

SUMMARY: Petitions for Reconsideration (Petitions) have been filed in the Commission's proceeding by: Kathleen O'Brien Ham, on behalf of T-Mobile USA, Inc.; Caressa D. Bennet, on behalf of PBP Group, LLC, Bulloch Cellular, Inc., Pineland Cellular, Inc., and Planters Rural Cellular, Inc.; and A. Wray Fitch, III, on behalf of Walker Broadcasting Company, Inc. T-Mobile USA, Inc.'s petition requests a declaratory ruling in the alternative.

DATES: Oppositions to the Petitions must be filed on or before December 28, 2015. Replies to an opposition must be filed on or before December 21, 2015.

ADDRESSES: Federal Communications Commission, 445 12th Street SW., Washington, DC 20554.

FOR FURTHER INFORMATION CONTACT: Mark Montano, Wireless Telecommunications Bureau, (202) 418-0691, email: mark.montano@fcc.gov.

SUPPLEMENTARY INFORMATION: This is a summary of Commission's document, Report No. 3036, released December 3, 2015. The Petitions are available for viewing and copying at the FCC Reference Information Center, 445 12th Street SW., Room CY-A257, Washington, DC 20554 or may be accessed online via the Commission's Electronic Comment Filing System at http://apps.fcc.gov/ecfs/. The Commission will not send a copy of this Public Notice pursuant to the Congressional Review Act, 5 U.S.C. 801(a)(1)(A), because this Public Notice does not have an impact on any rules of particular applicability.

Subject: Application Procedures for Broadcast Incentive Auction Scheduled to Begin on March 29, 2016; Technical Formulas for Competitive Bidding, published at 80 FR 66429, October 29, 2015, in AU Docket No. 14-252, GN Docket No. 12-268, WT Docket No. 12-269, Public Notice, and DA 15-1183 This Public Notice is being published pursuant to 47 CFR 1.429(e). See also 47 CFR 1.4(b)(1).

Number of Petitions Filed: 3

Federal Communications Commission.
Gloria J. Miles,
Federal Register Liaison Officer, Office of the Secretary.

[FR Doc. 2015-31256 Filed 12-9-15; 8:45 am]

BILLING CODE 6712-01-P